DEPARTMENT OF THE INTERIOR

Bureau of Indian Affairs

Indian Gaming

AGENCY: Bureau of Indian Affairs, Interior.

ACTION: Notice of approved amended Tribal-State compacts.

SUMMARY: This notice publishes approval of the Tribal-State Class III Gaming Compact between the State of New Mexico and the Pueblo of Isleta, Pueblo of Nambe, Pueblo of Picuris, Pueblo of San Felipe, Pueblo of Sandia, Pueblo of Santa Ana, Pueblo of Tesuque, Pueblo of Taos, Pueblo of Santa Clara and Ohkay Owingeh.

DATES: Effective Date: July 5, 2007.

FOR FURTHER INFORMATION CONTACT: George T. Skibine, Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of the approved Tribal-State Compacts and Amendments for the purpose of engaging in Class III gaming activities on Indian lands. This Amendment includes a provision that would eliminate any payments to the state should the state permit any licensed horse racetrack to increase number of machines, increase hours of operation, allow operation of gaming machines outside licensed premises or operate table games. This Amendment extends the term of the Compact until June 30, 2037.

Dated: June 18, 2007.
George T. Skibine,
Principal Deputy Assistant Secretary—Indian Affairs.

[FR Doc. E7-12904 Filed 7-3-07; 8:45 am]

BILLING CODE 4310-4N-P